ENVIRONMENTAL PROTECTION AGENCY

[FRL-10022-69-OP]

White House Environmental Justice Advisory Council; Notification of Virtual Public Meeting Series

AGENCY: Environmental Protection Agency (EPA).

ACTION: Notification for a series of public meetings.

SUMMARY: Pursuant to the Federal Advisory Committee Act (FACA), the U.S. Environmental Protection Agency (EPA) hereby provides notice that the White House Environmental Justice Advisory Council (WHEJAC) will meet on the dates and times described below. Due to unforeseen administrative circumstances, EPA is announcing the April 28, 2021 meeting with less than 15 calendar days public notice. The May 13, 2021 meeting will meet the FACA guidance. These meetings are open to the public. Members of the public are encouraged to provide comments relevant to the specific issues being considered by the WHEJAC. For additional information about registering to attend the meetings or to provide public comment, please see “REGISTRATION” under SUPPLEMENTARY INFORMATION. Pre-registration is required.

DATES: The WHEJAC will hold a series of public virtual public meetings on Wednesday, April 28, 2021, and Thursday, May 13, 2021, from approximately 2:00 p.m.-6:00 p.m., Eastern Daylight Time. A public comment period relevant to the specific issues will be considered by the WHEJAC at each meeting (see SUPPLEMENTARY INFORMATION). Members of the public who wish to participate during the public comment period must pre-register by 11:59 p.m., Eastern Daylight Time, one (1) week prior to each meeting date.

FOR FURTHER INFORMATION CONTACT: Karen L. Martin, WHEJAC Designated Federal Officer, U.S. EPA; email: whejac@epa.gov; telephone: (202) 564-0203. Additional information about the WHEJAC is available at https://www.epa.gov/environmentaljustice/white-house-environmental-justice-advisory-council.

SUPPLEMENTARY INFORMATION: The meeting discussion will focus on several topics including, but not limited to the discussion and deliberation of draft recommendations to the Chair of the Council on Environmental Quality and the White House Interagency Council on Environmental Justice from the Justice40 Work Group, Climate and Economic Justice Screening Tool Work Group and Executive Order 12898 Work Group.

The Charter of the WHEJAC states that the advisory committee will provide independent advice and recommendations to the Chair of the Council on Environmental Quality (CEQ) and to the White House Interagency Council on Environmental Justice (Interagency Council). The WHEJAC will provide advice and recommendations about broad cross-cutting issues, related but not limited to, issues of environmental justice and pollution reduction, energy, climate change mitigation and resiliency, environmental health, and racial inequity. The WHEJAC's efforts will include a broad range of strategic, scientific, technological, regulatory, community engagement, and economic issues related to environmental justice.

Registration: Individual registration is required for each of the virtual public meetings. Information on how to register is located at https://www.epa.gov/environmentaljustice/white-house-environmental-justice-advisory-council. Registration for the meetings is available through the scheduled end time of each meeting day. Registration to speak during the public comment period will close 11:59 p.m., Eastern Daylight Time, one (1) week prior to meeting date. When registering, please provide your name, organization, city and state, and email address for follow up. Please also indicate whether you would like to provide public comment during the meetings, and whether you are submitting written comments at the time of registration.

A. Public Comment

Every effort will be made to hear from as many registered public commenters during the time specified on the agenda. Individuals or groups making remarks during the public comment period will be limited to three (3) minutes. To accommodate the number of people who want to address the WHEJAC during the time allotted on the agenda, only one representative of a particular community, organization, or group will be allowed to speak. Submission of written comments for the record are strongly encouraged. The suggested format for individuals providing public comments is as follows: Name of speaker; name of organization/community; city and state; and email address; brief description of the concern, and what you want the WHEJAC to advise CEQ to do. Written comments received by registration deadline, will be included in the materials distributed to the WHEJAC prior to the meeting. Written comments received after that time will be provided to the WHEJAC as time allows. All written commenters should use the webform at https://www.epa.gov/environmentaljustice/forms/white-house-environmental-justice-advisory-council-whejac-public-comment to submit comments, and email any additional materials to whejac@epa.gov.

B. Information About Services for Individuals With Disabilities or Requiring English Language Translation Assistance

For information about access or services for individuals requiring assistance, please contact Karen L. Martin, via email at whejac@epa.gov. To request special accommodations for a disability or other assistance, please submit your request at least seven (7) working days prior to the meeting, to give EPA sufficient time to process your request. All requests should be sent to the email listed in the FOR FURTHER INFORMATION CONTACT section.

Matthew Tejada,
Director for the Office of Environmental Justice.

[FR Doc. 2021-08107 Filed 4-19-21; 8:45 am]

BILLING CODE 6560-50-P